DEPARTMENT OF COMMERCE

National Oceanic and Atmospheric Administration

RIN 0648-XQ08

Chinook Salmon Bycatch Data Collection Program

AGENCY: Alaska Fishery Science Center (AFSC), National Marine Fisheries Service (NMFS), National Oceanic and Atmospheric Administration (NOAA), Commerce.

ACTION: Notice of public workshop.

SUMMARY: NMFS announces a workshop to solicit comments from the Bering Sea Pollock fishing industry and other interested persons/parties on draft reporting forms for a proposed Chinook salmon bycatch data collection program.

DATES: The workshop will be held on Thursday, July 16, 2009, from 8 a.m. to 5 p.m., Pacific standard time.

ADDRESSES: The workshop will be held at the Nordby Conference Room at Fishermen's Terminal, Seattle, WA 98119.

FOR FURTHER INFORMATION CONTACT: Dr. Brian Garber-Yonts, AFSC, 206-526-6301.

SUPPLEMENTARY INFORMATION: NMFS is hosting a public workshop to solicit comment on a data collection program under consideration by the North Pacific Fishery Management Council (Council). The program would collect data from the Bering Sea Pollock industry to evaluate the effectiveness of voluntary industry incentive programs to reduce Chinook salmon bycatch, as well as how the Council's proposed Chinook salmon bycatch limits and bycatch performance standards affect where, when, and how pollock fishing and salmon bycatch occur.

The workshop is an initial information-gathering step intended to ensure that the data collection program collects consistent and accurate information. A draft of each data collection form will be posted on the Alaska Region website (http://www.alaskafisheries.noaa.gov) at least one week in advance of the workshop.

NMFS especially invites people from industry with management, accounting, and fishing backgrounds (especially fishing location decision making), who are familiar with:

• Salmon and pollock transfers (including prices);

• Cost and revenue information and the way that is kept (including fuel costs of changing fishing location and roe prices, revenues, and quality); and

• Decisions to move a vessel and the costs associated with moving a vessel.

Special Accommodations

This workshop is physically accessible to people with disabilities. Requests for special accommodations should be directed to Brian Garber-Yonts (see FOR FURTHER INFORMATION CONTACT) at least 5 working days before the workshop date.

Dated: June 29, 2009.
Alan D. Risenhoover,
Director, Office of Sustainable Fisheries, National Marine Fisheries Service.

[FR Doc. E9-15679 Filed 7-1-09; 8:45 am]

BILLING CODE 3510-22-S